DEPARTMENT OF TRANSPORTATION

Federal Aviation Administration

14 CFR Part 71

[Docket No. FAA-2007-27270; Airspace Docket No. 07-ANM-1]

RIN 2120-AA66

Establishment of Area Navigation Routes (RNAV), Western United States

AGENCY: Federal Aviation Administration (FAA), DOT.

ACTION: Final rule.

SUMMARY: This action establishes a high altitude RNAV route in the Seattle, WA area to facilitate air traffic operations by providing a direct route to the Phoenix, AZ, area. The FAA is implementing this route to enhance safety and to provide a more efficient use of navigable airspace.

DATES: Effective Date: 0901 UTC, October 25, 2007. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On May 7, 2007, the FAA published in the Federal Register a notice of proposed rulemaking to establish a direct route from the Seattle Area to the Phoenix, AZ, area (72 FR 25712). Interested parties were invited to participate in this rulemaking effort by submitting written comments on this proposal to the FAA. No comments were received.

High altitude area navigation routes are published in paragraph 2006 of FAA Order 7400.9P dated September 1, 2006 and effective September 15, 2006, which is incorporated by reference in 14 CFR 71.1. The area navigation routes listed in this document will be published subsequently in the Order.

The Rule

This action amends Title 14 Code of Federal Regulations (14 CFR) part 71 to establish an RNAV route within the airspace assigned to the Seattle, Los Angeles, Albuquerque, Salt Lake City and Denver Air Route Traffic Control Center (ARTCC). This route provides a direct route from the Seattle, WA area to Phoenix, AZ, and facilitates a more flexible and efficient use of navigable airspace for en route instrument flight rules operations.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, “Environmental Impacts: Policies and Procedures”, paragraph 311a. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9P, Airspace Designations and Reporting Points, dated September 1, 2006, and effective September 15, 2006, is amended as follows:

Paragraph 2006 Area Navigation Routes.

* * * * *

Q-35 IMB to DRK [new]
IMB | VORTAC | (Lat. 44°38′54″ N., long. 119°42′42″ W.)
NEERO | WP | (Lat. 41°49′03″ N., long. 118°01′29″ W.)
WINEN | WP | (Lat. 37°56′00″ N., long. 113°30′00″ W.)
CORKR | Fix | (Lat. 36°05′02″ N., long. 112°24′01″ W.)
DRK | VORTAC | (Lat. 34°42′09″ N., long. 112°28′49″ W.)

* * * * *

Issued in Washington, DC, on July 18, 2007.
Edith V. Parish,
Manager, Airspace and Rules Group.

[FR Doc. E7-14326 Filed 7-24-07; 8:45 am]

BILLING CODE 4910-13-P